DEPARTMENT OF ENERGY

Federal Energy Regulatory Commission

[Docket No. CP00-51-003]

East Tennessee Natural Gas Company; Notice of Amendment

November 6, 2000.

Take notice that on October 27, 2000, East Tennessee Natural Gas Company (East Tennessee), Post Office Box 1642, Houston, Texas 77251-1642, filed a petition with the Commission in Docket No. CP00-51-003 to amend the Commission order issued in Docket Nos. CP00-51-000 and CP00-51-001,¹ pursuant to section 7(c) of the Natural Gas Act (NGA), to vacate, in part, authorization granted to construct, install, and operate various pipeline facilities as part of its Rocky Top Expansion Project and to revise the directed incremental transportation rate from $10.201 per Dekatherm of natural gas to $8.780 per Dekatherm, all as more fully set forth in the amendment which is open to the public for inspection.

¹ 92 FERC ¶ 61,165 (2000).

East Tennessee states that it no longer needs to undertake the following activities at the following facilities because of changes in market conditions:

(1) Increase the horsepower of three existing Solar Saturn turbine compressor units at Compressor Station 3101 near Ridgetop, Robertson County, Tennessee;

(2) Uprate 4.56 miles of 22-inch diameter pipeline between Mainline Value (MLV) 3107-1, Overton County, Tennessee, and MLV 3107-1A in Overton County, Tennessee;

(3) Uprate 12.85 miles of 22-inch diameter pipeline between MLV 3107-1A, in Overton County, Tennessee, to MLV 3108-1 in Overton County, Tennessee;

(4) Uprate the dual 10-inch Tennessee River pipeline crossings and relocate MLV 3213-1A1 and MLV 3213-1A2 assemblies within 200 feet west of their existing locations at Mile Post 3.19 in Hamilton County, Tennessee;

(5) Uprate by hydrotesting the existing Chattanooga North, Red Bank, Chattanooga East, and Chattanooga Volunteer Ordinance meter stations on the 3200 Line in Hamilton County, Tennessee;

(6) Install new bidirectional metering facilities near MLV Site 3108-1 at the existing Citizens Meter Station in Morgan County, Tennessee; and,

(7) Uprate Value Section 3105-1 from Mile Post 11.20 to Mile Post 13.57 at Cumberland River in Jackson County, Tennessee.

East Tennessee states that the revised cost estimate for the proposed additions, modifications, and testing is $18,129,000, rather than the original cost estimate of $21,162,000 for the new facilities. Consequently, East Tennessee proposes a revised initial incremental transportation rate to reflect the reduced scope of the facilities to be constructed as part of the Rocky Top Expansion Project. Instead of the directed incremental transportation rate of $10.201 per Dekatherm of natural gas, East Tennessee now proposes to charge an incremental transportation rate of $8.780 per Dekatherm of natural gas under East Tennessee's Rate Schedule FT-A.

The project is more fully set forth in the application on file with the Commission and open for public inspection. The application may be viewed on the web at www.ferc.fed.us/online/rims.htm (call [202] 208-2222 for assistance).

Any questions regarding this application should be directed to Steven E. Tillman, Director of Regulatory Affairs, East Tennessee Natural Gas Company, P.O. Box 1642, Houston, Texas 77251-1642; telephone number (713) 627-5113.

Any person desiring to participate in the hearing process or to make any protest with reference to said application should on or before November 27, 2000, file with the Federal Energy Regulatory Commission, 888 First Street, NE., Washington, DC 20426, a motion to intervene or a protest in accordance with the requirements of the Commission's rules and procedure (18 CFR 385.214 or 385.211) and the Regulations under the Natural Gas Act (18 CFR 157.10). All protests filed with the Commission will be considered by it in determining the appropriate action to be taken, but will not serve to make protestants parties to the proceedings. Any person wishing to become a party to a proceeding or to participate as a party in any hearing therein must file a motion to intervene in accordance with the Commission's rules. Comments and protests may be filed electronically via the internet in lieu of paper. See, 18 CFR 385.2001(a)(1)(iii) and the instructions on the Commission's web site at http://www.ferc.fed.us/efi/doorbell.htm.

A person obtaining intervenor status will be placed on the service list maintained by the Secretary of the Commission and will receive copies of all documents filed by the applicant and by every one of the intervenors. An intervenor can file for rehearing of any Commission order and can petition for court review of any such order. However, an intervenor must submit copies of comments or any other filing it makes with the Commission to every other inventor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The commission will consider all comments and concerns equally, whether filed by commenters or those requesting intervenor status.

Take further notice that, pursuant to the authority contained in and subject to the jurisdiction conferred upon the Federal Energy Regulatory Commission by sections 7 and 15 of the Natural Gas Act and Commission's rules of practice and procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for East Tennessee to appear or be represented at the hearing.

David P. Boergers,
Secretary.

[FR Doc. 00-28923 Filed 11-9-00; 8:45 am]

BILLING CODE 6717-01-M